ENVIRONMENTAL PROTECTION AGENCY

[FRL-9629-4]

Notification of a Public Meeting of the Science Advisory Board (SAB) Animal Feeding Operations Emission Review Panel

AGENCY: Environmental Protection Agency (EPA).

ACTION: Notice.

SUMMARY: The EPA Science Advisory Board (SAB) Staff Office announces a public meeting of the SAB Panel to conduct a peer review on the EPA documents, “Draft—Development of Emissions Estimating Methodologies for Broiler Animal Feeding Operations” and “Draft—Development of Emissions Estimating Methodologies for Lagoons and Basins at Swine and Dairy Animal Feeding Operations” (February 2012 draft).

DATES: The SAB Panel meeting will be held on Wednesday, March 14, 2012 from 8:30 a.m. to 5:30 p.m. (Eastern Time), Thursday, March 15, 2012 from 8:30 a.m. to 5:30 p.m. (Eastern Time), and Friday, March 16, 2012 from 8:30 a.m. to 1 p.m. (Eastern Time).

ADDRESSES: The public meeting will be held at the Marriott at Research Triangle Park hotel, 4700 Guardian Drive, Durham, North Carolina 27703, (919) 941-6200.

FOR FURTHER INFORMATION CONTACT: Any member of the public who wants further information concerning the public meeting may contact Mr. Edward Hanlon, Designated Federal Officer (DFO), via telephone at (202) 564-2134 or email at hanlon.edward@epa.gov. General information concerning the SAB can be found on the EPA Web site at http://www.epa.gov/sab.

SUPPLEMENTARY INFORMATION: The SAB was established pursuant to the Environmental Research, Development, and Demonstration Authorization (ERDDAA) Act, codified at 42 U.S.C. 4365 to provide independent scientific and technical advice to the EPA Administrator on the technical basis for EPA actions. Pursuant to Federal Advisory Committee Act (FACA) and EPA policy, notice is hereby given that the SAB Animal Feeding Operations Emission Review Panel will hold a public meeting to peer review the EPA's documents, “Draft—Development of Emissions-Estimating Methodologies for Broiler Animal Feeding Operations” (February 2012 draft), and “Draft—Development of Emissions-Estimating Methodologies for Lagoons and Basins at Swine and Dairy Animal Feeding Operations” (February 2012 draft). EPA's Office of Air and Radiation developed the draft methodologies to address requirements of a voluntary air compliance consent agreement signed in 2005 between EPA and nearly 14,000 broiler, dairy, egg layer, and swine animal feeding operations. As previously announced in a Federal Register Notice (Volume 76, Number 70, Pages 54466-54467) published on September 1, 2011, EPA has requested the SAB to review EPA's emission estimating methodologies, and the SAB sought nominations of experts to serve on the SAB Panel. Information about the formation of the SAB Animal Feeding Operation Emission Review Panel can be found on the SAB Web site at http://yosemite.epa.gov/sab/sabproduct.nsf/fedrgstr_activites/Animal%20Feeding%20Air%20Methods?OpenDocument. The SAB Animal Feeding Operation Emission Review Panel will provide advice through the chartered SAB and will comply with the provisions of FACA and all appropriate SAB Staff Office procedural policies.

Technical Contacts: Any technical questions concerning EPA's air emission estimating methodologies for animal feeding operations, please contact Mr. Larry Elmore of EPA's Office of Air Quality Planning and Standards by phone at (919) 541-5433, or via email at elmore.larry@epa.gov.

Availability of Meeting Materials: Prior to the meeting, the review documents, agenda and other materials will be accessible through the calendar link on the blue navigation bar at http://www.epa.gov/sab/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments for a federal advisory committee to consider pertaining to EPA's charge to the panel or meeting materials. Input from the public to the SAB will have the most impact if it provides specific scientific or technical information or analysis for SAB panels to consider or if it relates to the clarity or accuracy of the technical information. Members of the public wishing to provide comment should contact the Designated Federal Officer directly. Oral Statements: In general, individuals or groups requesting an oral presentation at a public meeting will be limited to five minutes. Interested parties should contact Mr. Edward Hanlon, DFO, in writing (preferably via email) at the contact information noted above by March 7, 2012, to be placed on the list of public speakers for the meeting. Written Statements: Written statements should be supplied to the DFO via email at the contact information noted above by March 7, 2012 for the meeting so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Edward Hanlon at (202) 564-2134 or hanlon.edward@epa.gov. To request accommodation of a disability, please contact Mr. Hanlon preferably at least ten days prior to the meeting to give EPA as much time as possible to process your request.

Dated: February 2, 2012.
Thomas H. Brennan,
Deputy Director, EPA Science Advisory Board Staff Office.

[FR Doc. 2012-2999 Filed 2-8-12; 8:45 am]

BILLING CODE 6560-50-P